DEPARTMENT OF COMMERCE

National Oceanic and Atmospheric Administration

50 CFR Part 648

[I.D. 112701A]

New England Fishery Management Council; Public Meeting

AGENCY: National Marine Fisheries Service (NMFS), National Oceanic and Atmospheric Administration (NOAA), Commerce.

ACTION: Public meeting.

SUMMARY: The New England Fishery Management Council (Council) will hold a special 2-day Council meeting on December 19-20, 2001, to consider actions affecting New England fisheries in the exclusive economic zone (EEZ).

DATES: The meeting will be held on Wednesday and Thursday, December 19 and 20, 2001. The meeting will begin at 9:00 a.m. on both days.

ADDRESSES: The meeting will be held at the Sheraton Ferncroft Hotel, 50 Ferncroft Road, Danvers, MA 01923; telephone (978) 777-2500. Requests for special accommodations should be addressed to the New England Fishery Management Council, 50 Water Street, Mill 2, Newburyport, MA 01950; telephone (978) 465-0492.

FOR FURTHER INFORMATION CONTACT: Paul J. Howard, Executive Director, New England Fishery Management Council (978) 465-0492.

SUPPLEMENTARY INFORMATION:

Wednesday, December 19, 2001

Following introductions, the Council will discuss, with the intent to approve, skate species overfishing definition alternatives. Once approved, the definitions will be included in the Draft Environmental Impact Statement and public hearing document to be developed for the Northeast Skate Complex Fishery Management Plan (FMP). A Groundfish Committee Report will follow, during which the Council intends to approve the Draft Supplemental Environmental Impact Statement (DSEIS) for Framework Adjustment 36 to the Northeast Multispecies FMP for submission to NMFS for review by the Secretary of Commerce. The draft document will include a range of alternatives for meeting the goals of Amendment 7 to the Northeast Multispecies FMP. The Council will select alternatives and possibly identify a preferred alternative to be included in the Framework 36 DSEIS. Actions proposed are intended to reduce Gulf of Maine cod fishing mortality and discards as well as reduce fishing mortality on Georges Bank cod. Some alternatives may also reduce fishing mortality on other stocks and may affect the recreational sector. Measures include, but are not limited to the following: gear modifications, mesh size changes, closed area modifications, changes to the days-at-sea clock, days-at-sea reductions, alternative trip limits, a cod minimum size increase, limitations in the number of allowed gillnets, night closures, and changes to the blocks of time out of the fishery. Other issues that may be included in the framework are an extension or change to the Western Gulf of Maine Closed Area; tuna purse seine access to groundfish closed areas; a controlled access program for Closed Area II to harvest yellowtail flounder; an increase in the Cultivator Shoals whiting fishery trip limit; and a change in the area authorized for the northern shrimp fishery. There will be a 45-day comment period on the Framework 36 DSEIS document, as cleared by NOAA and the Environmental Protection Agency. The comment period will begin the day of publication of the Notice of Availability for the DSEIS in the Federal Register. Final decisions on the Framework 36 action and the FSEIS will be made at the March, 2002 Council meeting. Public comments on the framework action will be accepted at this meeting. The Council may also request that NMFS take interim action to extend the Western Gulf of Maine Closure and/or other measures necessary to protect groundfish stocks while Framework 36 measures are developed. Discussion of groundfish issues will continue through the afternoon session on December 19, 2001.

Thursday, December 20, 2001

The meeting will reconvene with a brief open session followed by a closed session of the Council to discuss internal administrative matters. Prior to meeting adjournment, there will be another brief open session to review the proceedings of the closed meeting. Any outstanding business will be addressed following this agenda item.

Although other non-emergency issues not contained in this agenda may come before this Council for discussion, those issues may not be the subjects of formal action during this meeting. Council action will be restricted to those issues specifically listed in this notice and any issues arising after publication of this notice that require emergency action under section 305(c) of the Magnuson-Stevens Act, provided that the public has been notified of the Council's intent to take final action to address the emergency.

The New England Council will consider public comments at a minimum of two Council meetings before making recommendations to the National Marine Fisheries Service Regional Administrator on any framework adjustment to a fishery management plan. If the Regional Administrator concurs with the adjustment proposed by the Council, the Regional Administrator may publish the action either as proposed or final regulations in the Federal Register. Documents pertaining to framework adjustments are available for public review 7 days prior to a final vote by the Council.

Special Accommodations

This meeting is physically accessible to people with disabilities. Requests for sign language interpretation or other auxiliary aids should be directed to Paul J. Howard (see ADDRESSES) at least 5 days prior to the meeting date.

Dated: November 28, 2001.
Bruce C. Morehead,
Acting Director, Office of Sustainable Fisheries, National Marine Fisheries Service.

[FR Doc. 01-29995 Filed 12-03-01; 8:45 am]

BILLING CODE 3510-22-S